NUCLEAR REGULATORY COMMISSION

Workshop Concerning the Revision of the Oversight Program for Nuclear Fuel Cycle Facilities

AGENCY: Nuclear Regulatory Commission (NRC).

ACTION: Notice of Public Workshop.

SUMMARY: NRC will host a public workshop in Rockville, Maryland to provide the public, those regulated by the NRC, and other stakeholders, with information about and an opportunity to provide views on how NRC plans to revise its oversight program for nuclear fuel cycle facilities. This workshop follows the recent public stakeholder workshop held in Rockville, Maryland on December 15, 1999. Presentations and other documents provided at each workshop, together with a transcript of each workshop, are placed on the NRC INTERNET web page (http://www.nrc.gov).

Similar to the revision of the oversight program for commercial nuclear power plants, NRC initiated an effort to improve its oversight program for nuclear fuel cycle facilities. This is described in SECY-99-188 titled, “EVALUATION AND PROPOSED REVISION OF THE NUCLEAR FUEL CYCLE FACILITY SAFETY INSPECTION PROGRAM.” SECY-99-188 is available in the Public Document Room and on the NRC Web Page at http://www.nrc.gov/NRC/COMMISSION/SECYS/index.html.

Purpose of Workshop

To obtain stakeholder views for improving the NRC oversight program for ensuring licensee and certificate holders maintain protection of worker and public health and safety, protection of the environment, and safeguards for nuclear material in the interest of national security. The oversight program applies to nuclear fuel cycle facilities regulated under 10 CFR Parts 40, 70, and 76. The facilities currently include gaseous diffusion plants, highly enriched uranium fuel fabrication facilities, low-enriched uranium fuel fabrication facilities, and a uranium hexafluoride (UF6) production facility. These facilities possess large quantities of materials that are potentially hazardous (i.e., radioactive, toxic, and/or flammable) to the workers, public, and environment. In revising the oversight program, the goal is to have an oversight program that: (1) provides earlier and more objective indications of acceptable and changing safety and safeguards performance, (2) increases stakeholder confidence in the NRC, and (3) increases regulatory effectiveness and efficiency. In this regard, the NRC desires the revised oversight program to be more risk-informed and performance-based and more focused on significant risks and poorer performers.

The workshop will focus on:

• Industry initiatives for identification, resolution, and correction of problems

• Objective and scope of safety and safeguards oversight program cornerstones

• Key safety and safeguards risk attributes for each cornerstone

• Safety and safeguards performance attributes the NRC needs to monitor and assess to ensure cornerstone objectives are met

• Performance monitoring attributes and means

DATES: The workshop, which is open for public participation, is scheduled for 8:00 a.m. to 5:00 p.m. on Tuesday, February 22, and Wednesday, February 23, 2000.

ADDRESSES: NRC's Two White Flint North Auditorium, 11545 Rockville Pike, Rockville, Maryland. Visitor parking around the NRC is limited; however, the meeting site is located adjacent to the White Flint Station on the Metro Red Line.

FOR FURTHER INFORMATION, CONTACT: Walter Schwink, Office of Nuclear Material Safety and Safeguards, U.S. Nuclear Regulatory Commission, Washington, DC 20555, telephone (301) 415-7253, e-mail wss@nrc.gov.

Dated at Rockville, Maryland this 1st day of February 2000.
For the Nuclear Regulatory Commission.
Walter Schwink,
Assistant Chief, Operations Branch,Division of Fuel Cycle Safety and Safeguards.

[FR Doc. 00-2709 Filed 2-4-00; 8:45 am]

BILLING CODE 7590-01-P